DEPARTMENT OF AGRICULTURE

Forest Service

Revision of the Land Management Plan for the Chugach National Forest, Alaska

AGENCY: Forest Service, USDA.

ACTION: Notice of intent to prepare an environmental impact statement.

SUMMARY: As directed by the National Forest Management Act (NFMA), the USDA Forest Service is preparing the Chugach National Forest's revised land management plan (forest plan), which requires preparation of an environmental impact statement (EIS). Publication of this notice marks the initiation of the public scoping period for the proposed action. This notice briefly describes the nature of the decision to be made, the proposed action, and information concerning public participation. It also provides estimated dates for filing the EIS, the name and address of the responsible agency official, and the individuals who can provide additional information. The revised forest plan will supersede the existing forest plan that was approved by the Regional Forester in 2002. The existing forest plan will remain in effect until the revised forest plan takes effect.

DATES: Comments concerning the proposed action provided in this notice will be most useful in the development of the proposed revised forest plan and draft EIS if received by February 17, 2016. The agency expects to release the proposed revised forest plan and draft EIS for formal comment by summer 2016 and a final EIS and draft record of decision by April 2017.

ADDRESSES: Comments may be sent in one of the following ways: (1) Via the Forest Plan Revision Web page at http://go.usa.gov/cBWvQ or (2) send or deliver written comments to the Chugach National Forest's Supervisor's Office, Attn: Forest Plan Revision, 161 East 1st Street, Door 8, Anchorage, AK 99501.

FOR FURTHER INFORMATION CONTACT: Mary C. Rasmussen, Forest Plan Revision Team Leader, at mcrasmussen@fs.fed.us or (907) 743-9500. Individuals who use telecommunication devices for the deaf (TDD) may call the Federal Information Relay Service (FIRS) at 1-800-877-8339 between 8 a.m. and 8 p.m., Eastern Time, Monday through Friday.

SUPPLEMENTARY INFORMATION:

Purpose and Need for Action

Several areas where changes are needed in the Chugach Forest Plan surfaced from the requirements of the 2012 Planning Rule for the National Forest System, findings from the development of the Assessment of the Chugach National Forest (a precursor document in the planning process that identified and evaluated the existing condition across the forest landscape), changes in conditions and demands since the 2002 forest plan, and public concerns to date.

The 2012 Planning Rule, which became effective May 9, 2012, requires inclusion of plan components that address social and economic sustainability, ecosystem services, and multiple uses integrated with the plan components for ecological sustainability and species diversity. Social and economic management direction is needed to provide people and communities with a range of social and economic benefits for present and future generations. To meet the Planning Rule's requirement to provide for ecological sustainability, management direction is needed that addresses ecosystem diversity (including key ecosystem characteristics and their integrity), in light of changes in climate, federal subsistence regulations, land ownership and recreational use patterns, and threats to ecosystem integrity from invasive species and pollution sources (e.g. the Exxon Valdez oil spill). Revised plan components are needed that focus on maintaining or restoring aquatic and terrestrial ecosystems to provide for species diversity including threatened and endangered species, species of conservation concern, and species of public interest. Additionally, updates and modifications to management direction are needed to address suitability of certain areas for particular uses, address access and sustainable recreation, provide for the management of existing and anticipated uses, as well as protect resources. During the plan revision process, the 2012 Planning Rule requires the Forest Service to undertake processes to identify and evaluate existing and new designated areas including lands that may be suitable for inclusion in the National Wilderness Preservation System and eligible rivers for inclusion in the National Wild and Scenic Rivers System.

Proposed Action

The Forest Service is preparing the Chugach National Forest revised land management plan. The detailed proposed action is available on the Forest's Web site at: http://go.usa.gov/cBWvQ. The proposed action describes the strategic intent of managing the Forest for the next 10 to 15 years and provides management direction in the form of goals, desired conditions, objectives, standards, and guidelines. It identifies management areas and geographic areas across the Forest and estimates the timber sale program quantity. The proposed action describes the plan area's distinctive roles and contributions within the broader landscape, identifies watersheds that are a priority for maintenance or restoration, and identifies the suitability of national forest lands to support a variety of proposed and possible actions that may occur on the plan area over the life of the plan. The proposed action also identifies a monitoring program.

The proposed action includes plan components to maintain or restore ecological conditions that contribute to maintaining viable populations of dusky Canada goose (Branta canadensis occidentalis), a species of conservation concern identified for the Chugach National Forest by the Regional Forester.

Nature and Scope of Decision To Be Made

As the forest plan is revised, the responsible official will use the National Environmental Policy Act (NEPA) process to develop alternatives to the proposed action and decide which alternative best promotes the ecological integrity and sustainability of the Chugach National Forest's ecosystems, watersheds, and diverse plant and animal communities. In addition, the responsible official will decide if the plan provides sufficient management guidance to contribute to social and economic sustainability, and to provide people and communities with ecosystem services and multiple uses including a range of social, economic, and ecological benefits for the present and into the future.

The responsible official will also determine whether to make new recommendations for Wilderness and other designated areas.

The revised forest plan will provide strategic direction and a framework for decision making during the life of the plan, but it will not make site-specific project decisions and will not dictate day-to-day administrative activities needed to carry on the Forest Service's internal operations. The authorization of project-level activities will be based on the direction contained in the revised forest plan, but will occur through subsequent project specific decision making, including NEPA analysis.

The revised forest plan will provide broad, strategic guidance designed to supplement, not replace, overarching laws and regulations. Though strategic guidance will be provided, no decisions will be made regarding the management of individual roads or trails, such as those that might be associated with a travel management plan under 36 CFR part 212. Some issues, although important, are beyond the authority or control of a forest plan and will not be addressed during this revision process. For example, the revision process cannot be used to modify inventoried roadless area boundaries established by the Roadless Area Conservation Rule.

Responsible Official

The responsible official who will approve the Record of Decision is Terri Marceron, Forest Supervisor for the Chugach National Forest, 161 East 1st Avenue, Door 8, Anchorage, AK 99501.

Applicable Planning Rule

Preparation of the revised forest plan for the Chugach National Forest began with the publication of a Notice of Initiation in the Federal Register on July 9, 2014 [79 FR 38852] and was initiated under the planning procedures contained in the 2012 Forest Service planning rule (36 CFR 219 (2012)).

Scoping Process

This notice of intent initiates the scoping process, which guides the development of the EIS. Written comments received in response to this notice will be analyzed to further develop the proposed revised forest plan and identify potential significant issues. Significant issues will, in turn, form the basis for developing alternatives to the proposed action.

It is important that reviewers provide their comments such that they are useful to the agency's preparation of the EIS. Comments on the proposed action will be most valuable if received within 60 days of the publication of this notice and should clearly articulate the reviewer's opinions and concerns.

Comments received in response to this solicitation, including names and addresses of those who comment, will become part of the public record. Comments submitted anonymously will be accepted and considered; however, anonymous comments will not provide the Agency with the ability to provide the respondent with subsequent environmental documents. See the section below concerning the objection process and the requirements for filing an objection.

While we are interested in all comments related to the proposed action, the Forest Service is particularly interested in receiving comments about which if any areas of the Chugach National Forest should be included in the analysis of wilderness character. The areas analyzed will form the basis for recommendations for future Wilderness designation.

Public Participation in the Planning Process

Beginning in March 2012, the Forest Service began to lay the foundation to engage the public about the forest plan revision process. The public and stakeholders were informed through press releases, letters and Web-based information, and the Forest Service partnered with the University of Alaska Anchorage (UAA) to hold 10 community workshops in the spring of 2012. Additionally, an online participatory mapping interface (Talking Points) was available for the public to use from April to November 2012.

On January 31, 2013, the Forest Service issued a news release announcing the beginning of the first phase of the planning process. On February 7, 2013, a legal notice was published in the Anchorage Daily News announcing the beginning of the assessment phase of the plan revision and upcoming opportunities for public engagement. Eighteen additional public meetings and workshops were held in local communities in 2013. In addition to these efforts, the Forest Service also conducted a series of targeted outreach efforts to federally recognized Alaska Native Tribes and Corporations, youth, new audiences, permittees, and neighboring landowners, including the State of Alaska, to capture stakeholder input for the assessment.

A public comment period with nine accompanying “open house” meetings was held in spring 2015 following publication of the following documents: Preliminary Need to Change Report; Draft Wilderness Inventory and Evaluation Report; Wild, Scenic and Recreational Rivers Evaluation Report; and a spring 2015 Plan Revision newsletter.

The public engagement strategy for early 2016 will focus on issue identification and alternative development. Engagement tools include: Keeping the Plan Revision Web page updated; notifying mailing list subscribers and interested parties when information is available; and soliciting invitations to stakeholder meetings to present additional forest plan revision information. Additional comment periods and public meetings will be scheduled to coincide with the availability of the revised forest plan and draft environmental impact statement expected in July 2016.

Decision Will Be Subject to Objection

The decision to approve the revised forest plan for the Chugach National Forest will be subject to the objection process identified in 36 CFR 219 Subpart B (219.50 to 219.62). According to 36 CFR 219.53(a), those who may file an objection are individuals and entities who have submitted substantive formal comments related to plan revision during the opportunities provided for public comment during the planning process.

Documents Available for Review

The detailed proposed action text describing preliminary desired conditions, objectives, standards, guidelines, and other plan content; the 2015 Need for Change; the 2014 Assessment; other documents that support the proposed action; and information from previous public meetings are posted on the Chugach National Forest's Web site at: http://go.usa.gov/cBWvQ. The material available on this site may be revised or updated at any time as part of the planning process.

Authority: 16 U.S.C. 1600-1614; 36 CFR part 219 [77 FR 21162-21276].

Dated: December 14, 2015.
Alicia King,
Acting Forest Supervisor.

[FR Doc. 2015-32043 Filed 12-18-15; 8:45 am]

BILLING CODE 3411-15-P